DEPARTMENT OF HEALTH AND HUMAN SERVICES

Centers for Disease Control and Prevention

Disease, Disability, and Injury Prevention and Control Special Emphasis Panel (SEP)—RFA-CK-20-004, Prevention Epicenters Program: Protecting Patients From Infections, Antibiotic Resistance and Other Adverse Events

Amended Notice of Meeting

Notice is hereby given of a change in the meeting of the Disease, Disability, and Injury Prevention and Control Special Emphasis Panel (SEP)—RFA-CK-20-004, Prevention Epicenters Program: Protecting Patients from Infections, Antibiotic Resistance and Other Adverse Events; May 21, 2020, 10:00 a.m.-5:00 p.m., (EDT).

Teleconference, Centers for Disease Control and Prevention, Room 1080, 8 Corporate Square Blvd., Atlanta, GA 30329 which was published in the Federal Register on January 30, 2020, Volume 85, Number 20, page 5440.

The meeting is being amended to change the date to May 20-21, 2020.

The meeting is closed to the public.

FOR FURTHER INFORMATION CONTACT: Gregory Anderson, M.S., M.P.H., Scientific Review Officer, CDC, 1600 Clifton Road NE, Mailstop US8-1, Atlanta, Georgia 30329, (404) 718-8833, gca5@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-02695 Filed 2-10-20; 8:45 am]

BILLING CODE 4163-18-P